NATIONAL SCIENCE FOUNDATION

Agency Information Collection Activities: Comment Request; NSF I-Corps Regional Hubs Assessment

AGENCY: National Science Foundation.

ACTION: Submission for OMB review; comment request.

SUMMARY: The National Science Foundation (NSF) has submitted the following information collection requirement to OMB for review and clearance under the Paperwork Reduction Act of 1995. This is the second notice for public comment; the first was published in the Federal Register and one request for a copy of the information collection was received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Title of Collection: Reporting Requirements for the National Science Foundation (NSF) Innovation Corps (I-Corps) Hubs Program.

OMB Number: 3145-NEW.

Type of Request: Intent to seek approval to establish an information collection.

Abstract: NSF's Division of Industrial Innovation and Partnerships (IIP), within the Engineering Directorate, serves a wide range of grantees across five major programs.

The NSF Innovation Corps (I-Corps) program was established at NSF in FY 2012 to equip scientists with the entrepreneurial tools needed to transform discoveries with commercial realization potential into innovative technologies. The goal of the I-Corps Program is to use experiential education to help researchers reduce the time necessary to translate a promising idea from the laboratory bench to widespread implementation. In addition to accelerating technology translation, NSF seeks to reduce the risk associated with technology development conducted without insight into industry requirements and challenges. The I-Corps Program uses a lean startup approach to encourage scientists to think like entrepreneurs through intensive workshop training and ongoing support. The program focuses on teams comprised of a Principal Investigator, Entrepreneurial Lead, and Mentor that work together to explore commercialization for their research-derived products.

In FY 2017, the American Innovation and Competitiveness Act (AICA), Public Law 114-329, Sec 601, formally authorized and directed the expansion of NSF I-Corps Program by increasing the economic competitiveness of the United States, enhancing partnerships between academia and industry, developing an American STEM workforce that is globally competitive, and supporting female entrepreneurs and individuals from historically underrepresented groups in STEM through mentorship, education, and training.

To that end, NSF built and has continued expanding an I-Corps National Innovation Network (NIN). NIN is a collection of NSF I-Corps Nodes and Sites that together with NSF implement the I-Corps program to grow and sustain the national innovation ecosystem. I-Corps Nodes are typically large, multi-institutional collaborations that deliver NSF national I-Corps Teams training curriculum as well as recruit and train the National I-Corps instructors. Sites are entrepreneurial centers located at individual colleges and universities to catalyze potential I-Corps teams within their local institutions. Together, the Nodes and Sites serve as the backbone of the NIN.

Recently, IIP published a new I-Corps Program Solicitation, NSF 20-529—NSF Innovation Corps Hubs Program (I-Corps™ Hubs), that has placed a strong emphasis on developing and further expanding the NIN. The I-Corps Hubs Program has strengthened the requirements to support a diverse and inclusive community of innovators, in that teams are encouraged to recruit diverse members at all levels. In addition, the I-Corps Hubs Program also provides new pathways for teams to qualify for the participation in the national I-Corps Teams program (at the Nodes). Through this solicitation, NSF seeks to evolve the current structure, in which NSF I-Corps Teams, Nodes, and Sites are funded through separate programs, towards a more integrated operational model capable of sustained operation at the scope and scale required to support the expansion of the NSF I-Corps Program as directed by AICA.

In order to support the agency's congressional reporting requirements in response to the AICA, we are asking NIN grantees to report the following information:

• Expansion of NIN

○ Number of teams trained

○ Number of teams advancing to national I-Corps Teams program (applicable to I-Corps Hubs and I-Corps Sites)

• STEM Workforce

○ Team size (number of members on the team)

○ Team characteristics (participation of females, veterans, and underrepresented minorities)

○ Participant status at the time of program

• Subsequent Commercialization Outcomes

○ Company formation

○ Following-on funding

SBIR Phase I, II funding

Other Federal Funding

Private Funding (including competition, and prize awards)

○ Revenues (sales, licensing fees, other operational cash flows)

The reporting of this information is in addition to the agency's annual report requirement for the grantees. Not only will the information help the agency report on NIN activities to Congress, they also provide managing Program Directors a means to monitor the operational states of these I-Corps Sites, Nodes, and Hubs, and ensure that their awards are in good standing. These data will also allow NSF to assess these awardees in terms of intellectual, broader, and commercial impacts that are core to our merit review criteria. Finally, in compliance with the Evidence Act of 2019, information collected will be used in satisfying congressional requests, responding to queries from the public, NSF's external merit reviewers who serve as advisors, and NSF's Office of the Inspector General, and supporting the agency's policymaking and internal evaluation and assessment needs.

Use of the Information: The information collected is primarily for the agency's AICA Reporting requirements, and other congressional requests.

Respondents: I-Corps Sites, Nodes, and Hubs Grantees.

Estimated number of respondents: 2,000.

Average burden per reporting: 15 minutes per respondent—10 minutes for the record of participation and five minutes for the follow-up survey for an estimate of 250 hours per year.

Frequency: Twice a year—once for the record of participation and once for the follow-up survey.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Dated: June 10, 2021.
Suzanne H. Plimpton,
Reports Clearance Officer, National Science Foundation.

[FR Doc. 2021-12665 Filed 6-15-21; 8:45 am]

BILLING CODE 7555-01-P